ENVIRONMENTAL PROTECTION AGENCY

40 CFR Part 300

[EPA-HQ-SFUND-1983-0002; FRL-10011-34-Region 1]

National Oil and Hazardous Substances Pollution Contingency Plan; National Priorities List: Partial Deletion of the Industri-Plex Superfund Site

AGENCY: Environmental Protection Agency (EPA).

ACTION: Proposed rule; notice of intent.

SUMMARY: The Environmental Protection Agency (EPA) Region 1 is issuing a Notice of Intent to Delete the 200 Presidential Way, Woburn, MA 01801 (200 Presidential Way) parcel of the Industri-Plex Superfund Site (Site) (MAD076580950) located in Woburn, Massachusetts, from the National Priorities List (NPL) and requests public comments on this proposed action. The NPL, promulgated pursuant to section 105 of the Comprehensive Environmental Response, Compensation, and Liability Act (CERCLA) of 1980, as amended, is an appendix of the National Oil and Hazardous Substances Pollution Contingency Plan (NCP). The EPA and the Commonwealth of Massachusetts, through the Massachusetts Department of Environmental Protection, have determined that all appropriate response actions at the identified parcel under CERCLA, been completed. However, this partial deletion does not preclude future actions under Superfund.

This partial deletion pertains to soil and groundwater at the approximately 10.7-acre 200 Presidential Way parcel. The remaining areas/media of the Industri-Plex Superfund Site will remain on the NPL and are not being considered for deletion as part of this action.

DATES: Comments must be received by August 14, 2020.

ADDRESSES: Submit your comments, identified by Docket ID no. EPA-HQ-SFUND-1983-0002, by one of the following methods:

• http://www.regulations.gov. Follow on-line instructions for submitting comments. Once submitted, comments cannot be edited or removed from Regulations.gov. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e. on the web, cloud, or other file sharing system). For additional submission methods, the full EPA public comment policy, information about CBI or multimedia submissions, and general guidance on making effective comments, please visit http://www2.epa.gov/dockets/commenting-epa-dockets.

• Email: Lemay.Joe@epa.gov.

• Written comments submitted by mail are temporarily suspended and no hand deliveries will be accepted. EPA encourage the public to submit comments via https://www.regulations.gov.

Instructions: Direct your comments to Docket ID no. EPA-HQ-SFUND-1983-0002. EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov or email. The http://www.regulations.gov website is an “anonymous access” system, which means EPA will not know your identity or contact information unless you provide it in the body of your comment. If you send an email comment directly to EPA without going through http://www.regulations.gov, your email address will be automatically captured and included as part of the comment that is placed in the public docket and made available on the internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the http://www.regulations.gov index. Although listed in the index, some information is not publicly available, e.g., CBI or other information whose disclosure is restricted by statute. Certain other material, such as copyrighted material, will be publicly available only in at the EPA Region 1 SEMS Records and Information Center (SEMS RIC). Publicly available docket materials are available either electronically at: http://www.regulations.gov, https://semspub.epa.gov/src/collection/01/AR66357 or https://go.usa.gov/xvvr6. EPA site specific web page: www.epa.gov/superfund/industriplex.

The EPA is temporarily suspending its Docket Center and Regional Records Centers for public visitors to reduce the risk of transmitting COVID-19. In addition, many site information repositories are closed and information in these repositories, including the deletion docket, has not been updated with hardcopy or electronic media. For further information and updates on EPA Docket Center services, please visit us online at https://www.epa.gov/dockets.

The EPA continues to carefully and continuously monitor information from the Centers for Disease Control and Prevention (CDC), local area health departments, and our Federal partners so that we can respond rapidly as conditions change regarding COVID.

FOR FURTHER INFORMATION CONTACT: Joseph LeMay, Remedial Project Manager, U.S. Environmental Protection Agency, Region 1—New England, 5 Post Office Square, Suite 100 (mail code: 07-4), Boston, MA 02109-3912, (617) 918-1323, email: Lemay.Joe@epa.gov; or SEMS Records & Information Center, EPA Region 1—New England, 5 Post Office Square, Suite 100 (mail code: 02-3), Boston, MA 02109-3912, (617) 918-1440, email: R1.Records-SEMS@epa.gov.

SUPPLEMENTARY INFORMATION:

Table of Contents

I. Introduction

II. NPL Deletion Criteria

III. Deletion Procedures

IV. Basis for Intended Partial Site Deletion

I. Introduction

EPA Region 1—New England announces its intent to delete the soil and groundwater of the approximately 10.7-acre 200 Presidential Way, Woburn, MA, (200 Presidential Way) parcel of the Industri-Plex Superfund Site (Site), from the National Priorities List (NPL) and request public comment on this proposed action. The NPL constitutes Appendix B of 40 CFR part 300 which is the National Oil and Hazardous Substances Pollution Contingency Plan (NCP), which EPA promulgated pursuant to section 105 of the Comprehensive Environmental Response, Compensation and Liability Act (CERCLA) of 1980, as amended. EPA maintains the NPL as those sites that appear to present a significant risk to public health, welfare, or the environment. Sites on the NPL may be the subject of remedial actions financed by the Hazardous Substance Superfund (Fund). This partial deletion of 200 Presidential Way parcel at the Site is proposed in accordance with 40 CFR 300.425(e) and is consistent with the Notice of Policy Change: Partial Deletion of Sites Listed on the National Priorities List. 60 FR 55466 (Nov. 1, 1995). As described in 300.425(e)(3) of the NCP, a portion of a site deleted from the NPL remains eligible for Fund-financed remedial action if future conditions warrant such actions.

EPA will accept comments on the proposal to partially delete this site for thirty (30) days after publication of this document in the Federal Register.

Section II of this document explains the criteria for deleting sites from the NPL. Section III discusses procedures that EPA is using for this action. Section IV discusses where to access and review information that demonstrates how the deletion criteria have been met for the 200 Presidential Way parcel of the Industri-Plex Superfund site and demonstrates how the parcel meets the deletion criteria. Site.

II. NPL Deletion Criteria

The NCP establishes the criteria that EPA uses to delete sites from the NPL. In accordance with 40 CFR 300.425(e), sites may be deleted from the NPL where no further response is appropriate. In making such a determination pursuant to 40 CFR 300.425(e), EPA will consider, in consultation with the Commonwealth of Massachusetts, whether any of the following criteria have been met:

i. Responsible parties or other persons have implemented all appropriate response actions required;

ii. all appropriate Fund-financed response under CERCLA has been implemented, and no further response action by responsible parties is appropriate; or

iii. the remedial investigation has shown that the release poses no significant threat to public health or the environment and, therefore, the taking of remedial measures is not appropriate.

III. Deletion Procedures

The following procedures apply to deletion of 200 Presidential Way parcel of the Site:

(1) EPA consulted with the Commonwealth of Massachusetts before developing this Notice of Intent for Partial Deletion.

(2) EPA has provided the Commonwealth of Massachusetts 30 working days for review of this notice prior to publication of it today.

(3) In accordance with the criteria discussed above, EPA has determined that no further response is appropriate.

(4) The Commonwealth of Massachusetts, through the Massachusetts Department of Environmental Protections, has concurred with the deletion of the 200 Presidential Way parcel at the Industri-Plex Superfund Site, from the NPL.

(5) Concurrently, with the publication of this Notice of Intent for Partial Deletion in the Federal Register, a notice is being published in a major local newspaper, Woburn Times Chronicle. The newspaper announces the 30-day public comment period concerning the Notice of Intent for Partial Deletion of the Site from the NPL.

(6) The EPA placed copies of documents supporting the proposed partial deletion in the deletion docket, made these items available for public inspection, and copying at the Site information repositories identified above.

If comments are received within the 30-day comment period on this document, EPA will evaluate and respond accordingly to the comments before making a final decision to delete the 200 Presidential Way parcel of the Site. If necessary, EPA will prepare a Responsiveness Summary to address any significant public comments received. After the public comment period, if EPA determines it is still appropriate to delete the 200 Presidential Way parcel of the Site, the Regional Administrator will publish a final Notice of Partial Deletion in the Federal Register. Public notices, public submissions and copies of the Responsiveness Summary, if prepared, will be made available to interested parties and included in the site information repositories listed above.

Deletion of a portion of a site from the NPL does not itself create, alter, or revoke any individual's rights or obligations. Deletion of a portion of a site from the NPL does not in any way alter EPA's right to take enforcement actions, as appropriate. The NPL is designed primarily for informational purposes and to assist EPA management. Section 300.425(e)(3) of the NCP states that the deletion of a site from the NPL does not preclude eligibility for future response actions, should future conditions warrant such actions.

IV. Basis for Partial Site Deletion

The EPA placed copies of documents supporting the proposed partial deletion in the deletion docket. The material supports EPA's rationale for the partial deletion of the 200 Presidential Way parcel at the Site. This information is made available for public inspection in the dockets identified above.

The Site boundary and approximate location of the 200 Presidential Way parcel are illustrated on Figure 1. The 200 Presidential Way parcel is approximately 10.7 acres, and the specific location of the parcel is illustrated on Figure 2. Soils and groundwater within the 200 Presidential Way parcel were included in Operable Unit 1 (OU-1) through a Record of Decision (ROD) issued by EPA in 1986. Final groundwater cleanup at the Industri-Plex Site was included in Operable Unit 2 (OU-2) through a ROD issued by EPA in 2006, where the Commonwealth of Massachusetts classified the groundwater within the 200 Presidential Way parcel as a non-drinking water aquifer. Prior to EPA issuing a June 2018 Explanation of Significant Difference (ESD) for OU-1 which modified the findings in the 1986 ROD pertaining to the 200 Presidential Way parcel, no remedial cleanup work had been conducted on the 200 Presidential Way parcel. Based on information provided in support of the 2018 ESD, EPA agreed that baseline risk assessment calculations for the evaluated soil and groundwater exposure scenarios do not exceed EPA's CERCLA risk management criteria, and that residential exposure to soils on the 200 Presidential Way parcel, residential exposure to groundwater associated with the vapor intrusion pathway and contact risk, and construction worker exposures to soil and groundwater were acceptable under CERCLA. Through the 2018 ESD, EPA determined that residential use, as well as daycare and school uses (with exposure similar to or less than residential use), of the 200 Presidential Way parcel was reasonable, and no further CERCLA restrictions needed to apply to the parcel to allow for unrestricted use/unrestricted exposure (UU/UE). Therefore, no CERCLA institutional control in the form of Notice of Activity and Use Limitation to notify future owners of CERCLA land use restrictions needs to be recorded on the 200 Presidential Way parcel.

List of Subjects in 40 CFR Part 300

Environmental protection, Air pollution control, Chemicals, Hazardous substances, Hazardous waste, Intergovernmental relations, Penalties, Reporting and recordkeeping requirements, Superfund, Water pollution control, Water supply.

Authority: 33 U.S.C. 1251 et seq.

Dated: June 18, 2020.
Dennis Deziel,
Regional Administrator, EPA Region 1 New England.

BILLING CODE 6560-50-P

[FR Doc. 2020-13637 Filed 7-14-20; 8:45 am]

BILLING CODE 6560-50-C